DEPARTMENT OF LABOR

Pension and Welfare Benefits Administration

Publication of Year 2001 Form M-1

AGENCY: Pension and Welfare Benefits Administration, Department of Labor.

ACTION: Notice on the availability of the Year 2001 Form M-1.

SUMMARY: This document announces the availability of the Year 2001 Form M-1, Annual Report for Multiple Employer Welfare Arrangements and Certain Entities Claiming Exception. A copy of this new form is attached.

FOR FURTHER INFORMATION CONTACT: Amy J. Turner, Pension and Welfare Benefits Administration, Department of Labor, at (202) 693-8335.

SUPPLEMENTARY INFORMATION:

I. Background

The Form M-1 is required to be filed under section 101(g) and section 734 of the Employee Retirement Income Security Act of 1974, as amended (ERISA), and 29 CFR 2520.101-2.

II. The Year 2001 Form M-1

This document announces the availability of the Year 2001 Form M-1, Annual Report for Multiple Employer Welfare Arrangements (MEWAs) and Certain Entities Claiming Exception (ECEs). A copy of the new form is attached.

This year's Form M-1 is substantively identical to the Year 2000 Form M-1. In addition, the filing deadlines for the Year 2001 Form M-1 parallel those for last year's form. Specifically, the Year 2001 Form M-1 is generally due March 1, 2002, with an extension until May 1, 2002 available. These Year 2001 deadlines were also previously published; they are included in the Department of Labor's regulations implementing the Form M-1 filing requirement and they were set forth in last year's Form M-1.

PWBA is committed to working together with administrators to help them comply with this filing requirement. Additional copies of the Form M-1 are available on the Internet at: http://www.dol.gov/dol/pwba. In addition, after printing, copies will be available by calling the PWBA toll-free publication hotline at 1-800-998-7542. Questions on completing the form are being directed to the PWBA help desk at (202) 693-8360.

Statutory Authority: Sec. 29 U.S.C. 1024, 1027, 1059, 1132(c)(5), 1135, 1181-1183, 1185, 1185a, 1185b, 1191, 1191a, 1191b, 1191c; Sec. 101, Pub. L. 104-191, 101 Stat. 1936 (29 U.S.C. 1181); Secretary of Labor's Order No. 1-87, 52 FR 13139, April 21, 1987.

Signed at Washington, DC, this 13th day of December, 2001.
Ann L. Combs,
Assistant Secretary, Pension and Welfare Benefits Administration.

BILLING CODE 4510-29-P

[FR Doc. 01-31252 Filed 12-18-01; 8:45 am]

BILLING CODE 4510-29-C